DEPARTMENT OF HEALTH AND HUMAN SERVICES

Centers for Disease Control and Prevention

[60Day-07-07BF]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Formative Research on Lung Cancer Screening—New—Division of Cancer Prevention and Control, National Center for Chronic Disease Prevention and Health Promotion (NCCDPHP), Centers for Disease Control and Prevention (CDC).

Background and Brief Description

Currently, there is scientific debate about the value of lung cancer screening. For people in whom lung cancer is found and treated at an early, localized stage, the five-year survival rate is roughly 49%. However, only 16% of people with lung cancer are diagnosed at this early, localized stage. Screening for lung cancer using chest x-rays (CXR) was widely practiced, but studies have shown that CXR with or without sputum cytology does not reduce mortality from lung cancer. Studies are currently underway to provide more information about the effectiveness of other types of screening tests, such as computed tomography (CT) scans and spiral CT scans.

The purpose of this project is to conduct formative research to gather information from adult consumers and primary care physicians about experiences and practices related to lung cancer screening and testing as well as their knowledge, attitudes, and behaviors related to preventive cancer screenings overall. Of particular interest are adults aged 40-70 years of various races and ethnicities who are at high risk for lung cancer (i.e., long-term heavy smokers).

The proposed project will use focus groups to gather information about the target audiences' experiences and practices related to lung cancer screening and testing. If warranted from focus group data with adult consumers, follow-up personal interviews will be conducted with selected focus group participants, especially those reporting experience with screening tests, such as spiral computed tomography (CT).

A total of 16 focus groups will be conducted at professional focus group facilities with long term heavy smokers aged 40-70. The data will be collected from a convenience sample of adults who will be screened and recruited using lists maintained by the focus group facilities. Each focus group will include approximately nine participants and last two hours. If warranted, one-hour telephone follow-up interviews will be conducted with up to 16 participants within one month of the focus groups.

Four telephone focus groups will be conducted with primary care physicians. The American Medical Association Physician Masterfile list will be used to recruit a random sample of physicians for participation in the focus groups. Potential participants (physicians) will be mailed a screening packet to complete and return. Each of the four focus groups will include approximately eight participants and last 75 minutes.

There are no costs to respondents except their time to participate in the survey.

Estimated Annualized Burden Hours
Respondents | Number of respondents | Number of responses/ respondent | Average burden/response (in hours) | Total burden (in hours)
Patient Participants Screener | 288 | 1 | 2/60 | 10
Patient Focus Group Participants | 144 | 1 | 2 | 288
Patient Follow-up Interview In Depth Participants | 16 | 1 | 1 | 16
Physician Participants Screener | 96 | 1 | 5/60 | 8
Physician Focus Group Participants | 32 | 1 | 1.15 | 40
Total | 362 |  |  | 362

Dated: August 8, 2007.
Maryam I. Daneshvar,
Acting Reports Clearance Officer, Centers for Disease Control and Prevention.

[FR Doc. E7-15896 Filed 8-13-07; 8:45 am]

BILLING CODE 4163-18-P